SMALL BUSINESS ADMINISTRATION

[Disaster Declaration #11750 and #11751]

West Virginia Disaster Number WV-00012

AGENCY: U.S. Small Business Administration.

ACTION: Amendment 2.

SUMMARY: This is an amendment of the Presidential declaration of a major disaster for the State of West Virginia (FEMA-1838-DR), dated 05/15/2009.

Incident: Severe Storms, Flooding, Mudslides, and Landslides.

Incident Period: 05/03/2009 and continuing through 06/08/2009.

DATES: Effective Date: 06/08/2009.

Physical Loan Application Deadline Date: 07/14/2009.

EIDL Loan Application Deadline Date: 02/15/2010.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of West Virginia, dated 05/15/2009 is hereby amended to establish the incident period for this disaster as beginning 05/03/2009 and continuing through 06/08/2009.

All other information in the original declaration remains unchanged.

(Catalog of Federal Domestic Assistance Numbers 59002 and 59008)

James E. Rivera,
Acting Associate Administrator, for Disaster Assistance.

[FR Doc. E9-14364 Filed 6-18-09; 8:45 am]

BILLING CODE 8025-01-P